DEPARTMENT OF COMMERCE

National Oceanic and Atmospheric Administration

50 CFR Part 679

[Docket No. 041126332-5039-02; I.D. 020606A]

Fisheries of the Exclusive Economic Zone Off Alaska; Reallocation of Pollock from the Aleutian Islands Subarea to the Bering Sea Subarea

AGENCY: National Marine Fisheries Service (NMFS), National Oceanic and Atmospheric Administration (NOAA), Commerce.

ACTION: Temporary rule; reallocation.

SUMMARY: NMFS is reallocating the projected unused amounts of Community Development Quota (CDQ) pollock from the Aleutian Islands subarea to the Bering Sea subarea. This action is necessary to allow the 2006 total allowable catch (TAC) of pollock in the Aleutian Islands subarea to be harvested in the Bering Sea subarea.

DATES: Effective February 10, 2006, through 2400 hrs, Alaska local time (A.l.t.), December 31, 2006.

FOR FURTHER INFORMATION CONTACT: Josh Keaton, 907-586-7228.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

In the Aleutian Islands subarea, the 2006 A season allowance of CDQ pollock is 760 mt as established by the 2005 and 2006 final harvest specifications for groundfish in the BSAI (70 FR 8979, February 24, 2005), for the period 1200 hrs, A.l.t., January 1, 2006, through 1200 hrs, A.l.t., June 10, 2006.

As of January 26, 2006, the Administrator, Alaska Region, NMFS, (Regional Administrator) has determined that 760 mt of A season CDQ pollock will not be harvested. Therefore, in accordance with § 679.20(a)(5)(iii)(B)(4), NMFS reallocates 760 mt of CDQ pollock from the Aleutian Islands subarea to the Bering Sea subarea A season allocation.

Furthermore, the Regional Administrator has determined through consultation with the CDQ groups that 1,140 mt of the B season CDQ pollock allocations in the Aleutian Islands subarea will not be harvested. Therefore, in accordance with § 679.20(a)(5)(iii)(B)(4), NMFS reallocates 1,140 mt of CDQ pollock from the Aleutian Islands subarea to the Bering Sea subarea B season allocation. Table 3 has been revised to reflect this reallocation.

The harvest specifications for pollock in the Aleutian Islands and Bering Sea subarea included in the harvest specifications for groundfish in the BSAI (70 FR 8979, February 24, 2005) are revised as follows: 0 mt to the A season allowance of CDQ pollock in the Aleutian Islands subarea, 0 mt to the B season allowance of CDQ pollock in the Aleutian Islands subarea, 60,270 mt to the A season allowance of CDQ pollock in the Bering Sea subarea, and 90,406 mt to the B season allowance of CDQ pollock in the Bering Sea subarea.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of Aleutian Islands subarea pollock to the Bering Sea subarea A season. At the end of January 2006, NMFS was notified by the CDQ groups that the pollock allocations in the Aleutian Islands subarea will not be harvested. Since the A season is currently open, it is important to immediately inform the industry as to the final Bering Sea subarea A season allocations. Immediate notification is necessary in order to allow for the orderly conduct and efficient operation of this fishery thereby allowing the industry to plan for the fishing season and avoid potential disruption to the fishing fleet as well as processors.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: February 6, 2006.
Alan D. Risenhoover,
Acting Director, Office of Sustainable Fisheries, National Marine Fisheries Service.

[FR Doc. 06-1250 Filed 2-9-06; 8:45 am]

BILLING CODE 3510-22-S